DEPARTMENT OF TRANSPORTATION

National Highway Traffic Safety Administration

Reports, Forms and Record Keeping Requirements Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on September 27, 2007 (72 FR 54974).

DATES: Comments must be submitted on or before February 14, 2008.

ADDRESSES: Comments should be directed to the Office of Information and Regulatory Affairs, Office of Management and Budget, 725 17th Street, NW., Washington, DC 20503, Attention NHTSA Desk Officer.

FOR FURTHER INFORMATION CONTACT: Michael Kido, National Highway Traffic Safety Administration, Office of the Chief Counsel (NCC-111), (202) 366-5263, 1200 New Jersey Avenue, SE., Washington, DC 20590.

SUPPLEMENTARY INFORMATION:

National Highway Traffic Safety Administration

Title: Confidential Business Information.

Type of Request: Extension of a currently approved collection.

Form Number: This collection of information uses no standard forms.

OMB Control Number: 2127-0025.

Frequency: Submission of information pursuant to this regulation will depend on the frequency with which a given entity, such as a manufacturer of motor vehicles or motor vehicle equipment, submits information and a request that the agency hold the information confidential, generally pursuant to Exemption 4 of the Freedom of Information Act (FOIA), 5 U.S.C. 552(b)(4).

Affected Public: This collection of information would apply to any person who seeks to have the agency treat as confidential information submitted to the agency either voluntarily or pursuant to a mandatory information request issued by the agency. Thus, the collection of information could apply to any of the entities over which the agency exercises regulatory authority. Recent trends lead the agency to estimate that NHTSA will receive approximately 450 requests for confidential treatment in 2007 and subsequent years. Large manufacturers make the vast majority of requests for confidential treatment.

Abstract: NHTSA's Confidential Business Information (CBI) rule, coupled with case law, has governed the submission of requests for confidential treatment of information for over 20 years. Recently, NHTSA amended the regulation to address submissions contained in an electronic medium (such as a CD-ROM). See 72 FR 59434 (Oct. 19, 2007).

Estimated Annual Burden: Using the above estimate of approximately 450 requests for confidentiality per year, with an estimated eight hours of preparation to collect and provide the information, at an assumed rate of $26.70 an hour, the annual estimated cost of collecting and preparing the information necessary for 450 complete requests for confidential treatment is about $96,120 (8 hours of preparation × 450 requests × $26.70). Adding in a postage cost of $2,070 (450 requests at a cost of $4.60 for postage), we estimate that it will cost $98,190 per year for persons to prepare and submit the information necessary to satisfy the confidential business information provisions of 49 CFR part 512.

Requesters are not required to keep copies of any records or reports submitted to us. As a result, the cost imposed to keep records would be zero hours and zero costs.

Number of Respondents: We estimate that there will be approximately 450 requests per year.

Summary of the Collection of Information: Any entity seeking confidential treatment for information submitted to the agency will be required to request confidential treatment from the agency and to justify that request. To obtain confidential treatment of submitted information, the submitting entity must comply with the requirements in NHTSA's CBI regulation and satisfy the requirements for one of the exemptions provided under the FOIA, 5 U.S.C. 552(b).

ADDRESSES: Send comments, within 30 days, to the Office of Information and Regulatory Affairs, Office of Management and Budget, 725 17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued on: January 9, 2008.
Lloyd S. Guerci,
Assistant Chief Counsel for Litigation and Enforcement.

[FR Doc. E8-487 Filed 1-14-08; 8:45 am]

BILLING CODE 4910-59-P